DEPARTMENT OF LABOR

Employee Benefits Security Administration

145th Meeting of the Advisory Council on Employee Welfare and Pension Benefit Plans; Notice of Meeting

Pursuant to the authority contained in Section 512 of the Employee Retirement Income Security Act of 1974 (ERISA), 29 U.S.C. 1142, the 145th open meeting of the full Advisory Council on Employee Welfare and Pension Benefit Plans will be held on June 11, 2009.

The session will take place in Room S-2508, U.S. Department of Labor, 200 Constitution Avenue NW., Washington, DC 20210. The purpose of the open meeting, which will run from 1:30 p.m. to approximately 4:30 p.m., is to swear in the new members, introduce the Council Chair and Vice Chair, receive an update from the Employee Benefits Security Administration, and determine the topics to be addressed by the Council in 2009.

Organizations or members of the public wishing to submit a written statement may do so by submitting 25 copies on or before June 4, 2009 to Larry Good, Executive Secretary, ERISA Advisory Council, U.S. Department of Labor, Suite N-5623, 200 Constitution Avenue, NW., Washington, DC 20210. Statements may also be submitted electronically to good.larry@dol.gov. Statements received on or before June 4, 2009 will be included in the record of the meeting. Individuals or representatives of organizations wishing to address the Advisory Council should forward their requests to the Executive Secretary or telephone (202) 693-8668. Oral presentations will be limited to ten minutes, time permitting, but an extended statement may be submitted for the record. Individuals with disabilities who need special accommodations should contact Larry Good by June 4 at the address indicated.

Signed at Washington, DC this 20th day of May, 2009.
Michael L. Davis,
Deputy Assistant Secretary, Employee Benefits Security Administration.

[FR Doc. E9-12114 Filed 5-22-09; 8:45 am]

BILLING CODE 4510-29-P